DEPARTMENT OF TRANSPORTATION

Federal Aviation Administration

14 CFR Part 39

[Docket No. 2002-NM-91-AD]

RIN 2120-AA64

Airworthiness Directives; Various Transport Category Airplanes on Which Cargo Restraint Strap Assemblies Have Been Installed Per Supplemental Type Certificate (STC) ST01004NY

AGENCY: Federal Aviation Administration, DOT.

ACTION: Notice of proposed rulemaking (NPRM).

SUMMARY: This document proposes the adoption of a new airworthiness directive (AD) that is applicable to various transport category airplanes on which cargo restraint strap assemblies have been installed per STC ST01004NY. This proposal would require revising the Airplane Flight Manual to include a procedure for discontinuing the use of certain cargo restraint strap assemblies that have been installed per STC ST01004NY if used as the only cargo restraint. This action is necessary to prevent shifting or unrestrained cargo in the cargo compartment, which could cause an unexpected change in the airplane's center of gravity, damage to the airplane structure and/or flight control system, a hazard to the flightcrew, and/or possible loss of controllability of the airplane. This action is intended to address the identified unsafe condition.

DATES: Comments must be received by September 12, 2003.

ADDRESSES: Submit comments in triplicate to the Federal Aviation Administration (FAA), Transport Airplane Directorate, ANM-114, Attention: Rules Docket No. 2002-NM-91-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-91-AD” in the subject line and need not be submitted in triplicate. Comments sent via the Internet as attached electronic files must be formatted in Microsoft Word 97 or 2000 or ASCII text.

FOR FURTHER INFORMATION CONTACT: Jon Hjelm, Aerospace Engineer, Airframe and Propulsion Branch, ANE-171, FAA, New York Aircraft Certification Office, 10 Fifth Street, Third Floor, Valley Stream, New York 11581; telephone (516) 256-7523; fax (516) 568-2716.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-91-AD.” The postcard will be date stamped and returned to the commenter.

Availability of NPRMs

Any person may obtain a copy of this NPRM by submitting a request to the FAA, Transport Airplane Directorate, ANM-114, Attention: Rules Docket No. 2002-NM-91-AD, 1601 Lind Avenue, SW., Renton, Washington 98055-4056.

Discussion

The FAA has received reports of incorrect installation of cargo restraint strap assemblies having part number 1519-MCIDS. These cargo restraint strap assemblies are manufactured by Airline Container Manufacturing Company, Inc., and are installed on various transport category airplanes per Supplemental Type Certificate (STC) ST01004NY. Reports also indicate the use of incorrect pallet and strap combinations, and the use of straps inappropriate for the type of cargo to be restrained. In addition, reports indicate that, upon landing, the strap assemblies were disassembled, and no record was made of the incidents. Shifting or unrestrained cargo in the cargo compartment due to such conditions could cause an unexpected change in the airplane's center of gravity, damage to the airplane structure and/or flight control system, a hazard to the flightcrew, and/or possible loss of controllability of the airplane.

Explanation of Requirements of Proposed Rule

Since an unsafe condition has been identified that is likely to exist or develop on other products of this same type design, the proposed AD would require revising the Limitations section of the Airplane Flight Manual (AFM) to include a procedure for discontinuing the use of certain cargo restraint strap assemblies that have been installed per STC ST01004NY if used as the only cargo restraint. The actions would be required to be accomplished per a method approved by the FAA. We have determined that, although such cargo restraint strap assemblies may not be used as the only restraint, the strap assemblies may be used as a supplemental restraint in conjunction with TSO C90c Type I cargo nets or other FAA-approved assemblies for securing cargo to pallets only.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are approximately 1,150 transport category airplanes of the affected design in the worldwide fleet. The FAA estimates that 735 airplanes of U.S. registry would be affected by this proposed AD, that it would take approximately 1 work hour per airplane to accomplish the proposed AFM revision, and that the average labor rate is $65 per work hour. Based on these figures, the cost impact of the proposed AD on U.S. operators is estimated to be $47,775, or $65 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Transport Category Airplanes: Docket 2002-NM-91-AD.

Applicability: The following transport category airplanes on which cargo restraint strap assemblies have been installed per Supplemental Type Certificate (STC) ST01004NY, certificated in any category:

Table—Manufacturers/Airplane Models
Manufacturer | Airplane model
Aerospatiale | ATR42 and ATR72 series airplanes.
Airbus | A300 B2 and A300 B4 series airplanes; A300 B4-600, A300 B4-600R, and A300 F4-600R (collectively called A300-600) series airplanes; A310, A320, A321, A330, and A340 series airplanes.
Boeing | 707-100, 707-200, 707-100B, and 707-100B series airplanes; 727, 737, 747, 757, and 767 series airplanes.
British Aerospace | BAe 146 series airplanes; Avro 146-RJ series airplanes.
Fokker | F27 and F.28 series airplanes.
Lockheed | 188A and 188C airplanes, L-1011 series airplanes.
Maryland Air Industries, Inc | F-27 series airplanes, FH-227 series airplanes.
McDonnell Douglas | DC-7, DC-7B, and DC-7C airplanes;
| DC-8-11, DC-8-12, DC-8-21, C-8-31, DC-8-32, DC-8-33, DC-8-41, DC-8-42, and DC-8-43 airplanes; DC-8-51, DC-8-52, DC-8-53, and DC-8-55 airplanes;
| DC-8F-54 and DC-8F-55 airplanes;
| DC-8-61, DC-8-62, and DC-8-63 airplanes; DC-8-61F, DC-8-62F, and DC-8-63F airplanes;
| DC-8-71, DC-8-72, and DC-8-73 airplanes; DC-8-71F, DC-8-72F, and DC-8-73F airplanes;
| DC-9-11, DC-9-12, DC-9-13, DC-9-14, DC-9-15, and DC-9-15F airplanes;
| DC-9-21 airplanes; DC-9-31, DC-9-32, DC-9-32 (VC-9C), DC-9-32F, DC-9-33F, DC-9-34, DC-9-34F, DC-9-41, DC-9-51, DC-9-81 (MD-81), DC-9-82 (MD-82), DC-9-83 (MD-83), and DC-9-87 (MD-87) airplanes;
| MD-88 airplanes;
| MD-90-30 airplanes;
| 717-200 airplanes;
| DC-10-10 and DC-10-10F airplanes; DC-10-15 airplanes; DC-10-30 and DC-10-30F (KDC-10) airplanes; DC-10-40 and DC-10-40F airplanes;
| MD-10-10F and MD-10-30F airplanes;
| MD-11 and MD-11F airplanes.

Compliance: Required as indicated, unless accomplished previously.

To prevent shifting or unrestrained cargo in the cargo compartment, which could cause an unexpected change in the airplane's center of gravity, damage to the airplane structure and/or flight control system, a hazard to the flightcrew, and/or possible loss of controllability of the airplane, accomplish the following:

Airplane Flight Manual (AFM) Revision

(a) Within 10 days after the effective date of this AD, revise the Limitations Section of the AFM to include the following information (this may be accomplished by inserting a copy of this AD into the AFM):

Discontinue the use of Airline Container Manufacturing Company, Inc., cargo restraint straps, part number P/N 1519-MCIDS, as the only means of securing cargo to Technical Standard Order (TSO) C90c/NAS3610 pallets. Such cargo restraint straps may continue to be used as supplemental restraints, if used with TSO C90c Type I cargo nets, or other FAA-approved cargo nets. (The subject cargo restraint straps were installed per Airline Container Manufacturing Company, Inc., Report No. 289A, Installation Instructions, Revision D, per Supplemental Type Certificate (STC) ST01004NY.)

Note 1: If the statement in paragraph (a) of this AD has been incorporated into the general revisions of the AFM, the general revisions may be incorporated into the AFM, and the copy of this AD may then be removed from the AFM.

Alternative Methods of Compliance

(b) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 2: Information concerning the existence of approved alternative methods of compliance with this AD, if any, may be obtained from the New York ACO.

Special Flight Permits

(c) Special flight permits may be issued in accordance with sections 21.197 and 21.199 of the Federal Aviation Regulations (14 CFR 21.197 and 21.199) to operate the airplane to a location where the requirements of this AD can be accomplished.

Issued in Renton, Washington, on July 22, 2003.
Kalene C. Yanamura,
Acting Manager, Transport Airplane Directorate, Aircraft Certification Service.

[FR Doc. 03-19196 Filed 7-28-03; 8:45 am]

BILLING CODE 4910-13-P